DEPARTMENT OF JUSTICE

Notice of Lodging of Agreement and Order Regarding Modification of Consent Decree as to ARCO Chemical Company and Atlantic Richfield Company Under the Comprehensive Environmental Response, Compensation, and Liability Act

Notice is hereby given that on February 27, 2012, a proposed Agreement and Order Regarding Modification of Consent Decree as to ARCO Chemical Company and Atlantic Richfield Company (“Consent Decree Modification”) in United States v. Lang, Civil Action No. 1:94CV57, was lodged with the United States District Court for the Eastern District of Texas.

This action was originally filed on January 28, 1994 by the United States of America (“United States”) under Comprehensive Environmental Response, Compensation, and Liability Act (“CERCLA”) Section 107, 42 U.S.C. 9607, seeking (1) reimbursement of costs (plus accrued interest) incurred by the United States for response actions at the Turtle Bayou Superfund Site (also known as the Petro-Chemical Systems, Inc. Superfund Site) in Liberty County, Texas (“the Site”) and (2) performance of studies and response work at the Site consistent with the National Contingency Plan (“NCP”), 40 CFR part 300. On December 8, 1998, the court entered a Consent Decree as to ARCO Chemical Company and Atlantic Richfield Company (“the 1998 Consent Decree”) which resolved the United States' claims against ARCO Chemical Company and Atlantic Richfield Company. Pursuant to the 1998 Consent Decree, ARCO Chemical Company and Atlantic Richfield Company were obligated to, inter alia, perform response activities at the Site and to establish and maintain financial security to demonstrate their ability to complete the required Work. Lyondell Chemical Company is the successor to ARCO Chemical Company under the 1998 Consent Decree. In 2009, Lyondell Chemical Company and certain of its affiliates (collectively “Debtors”) filed with the United States Bankruptcy Court for the Southern District of New York (“the Bankruptcy Court”) voluntary petitions for relief under Title 11 of the United States Code. In 2010, the United States, Debtors, and various state environmental agencies including the Texas Commission on Environmental Quality (“TCEQ”) entered into an agreement resolving various claims including claims related to the 1998 Consent Decree (“the 2010 Bankruptcy Settlement”). As part of the 2010 Bankruptcy Settlement, the Parties agreed to substitute the Lyondell Environmental Custodial Trust for Lyondell Chemical Company as a party under the 1998 Consent Decree. The proposed Consent Decree Modification would implement the 2010 Bankruptcy Settlement by substituting the Lyondell Environmental Custodial Trust for Lyondell Chemical Company and by clarifying the application of certain Consent Decree provisions to the Lyondell Environmental Custodial Trust. In addition, the proposed Consent Decree Modification would modify the financial assurance provisions of the 1998 Consent Decree.

The Department of Justice will receive for a period of thirty (30) days from the date of this publication comments relating to the Consent Decree Modification. Comments should be addressed to the Assistant Attorney General, Environment and Natural Resources Division, and either emailed to pubcomment-ees.enrd@usdoj.gov or mailed to P.O. Box 7611, U.S. Department of Justice, Washington, DC 20044-7611, and should refer to United States v. Lang D.J. Ref. 90-11-3-709.

During the public comment period, the Consent Decree Modification, may also be examined on the following Department of Justice Web site: http://www.usdoj.gov/enrd/Consent_Decrees.html. A copy of the Second Consent Decree Modification may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $4.50 (25 cents per page reproduction cost) payable to the U.S. Treasury or, if requesting by email or fax, forward a check in that amount to the Consent Decree Library at the address given above.

Maureen M. Katz,
Assistant Chief, Environmental Enforcement Section, Environment and Natural Resources Division.

[FR Doc. 2012-5074 Filed 3-1-12; 8:45 am]

BILLING CODE 4410-15-P